SMALL BUSINESS ADMINISTRATION

[License No. 02/02-0698]

Star Mountain SBIC Fund, LP; Notice Seeking Exemption Under Section 312 of the Small Business Investment Act, Conflicts of Interest

Notice is hereby given that Star Mountain SBIC Fund, LP, 2 Grand Central Tower, 140 East 45th Street, 37th Floor, New York, NY 10017, a Federal Licensee under the Small Business Investment Act of 1958, as amended (“the Act”), in connection with the financing of a small concern, has sought an exemption under Section 312 of the Act and Section 107.730, Financings which Constitute Conflicts of Interest of the Small Business Administration (“SBA”) Rules and Regulations (13 CFR 107.730). Star Mountain SBIC Fund, L.P. is providing a financing to Southern Ag Carriers, Inc., 3422 Sylvester Rd., Albany, GA 31703.

The financing is brought within the purview of § 107.730(a)(4) of the Regulations because Star Mountain SBIC Fund, LP is providing a financing to Southern Ag Carriers, Inc. that will be used, in part, to discharge an obligation to an Associate. Therefore, this transaction is considered financing a Small Business to discharge an obligation to its Associate, requiring a prior SBA exemption and pre-financing SBA approval.

Notice is hereby given that any interested person may submit written comments on the transaction, within fifteen days of the date of this publication, to the Associate Administrator, Office of Investment and Innovation, U.S. Small Business Administration, 409 Third Street SW, Washington, DC 20416.

U.S. Small Business Administration.
Bailey G. DeVries,
Associate Administrator, Office of Investment and Innovation.

[FR Doc. 2022-14656 Filed 7-8-22; 8:45 am]

BILLING CODE P